DEPARTMENT OF ENERGY

Federal Energy Regulatory Commission

[Docket Nos. CP01-117-000, et al.]

Transcontinental Gas Pipe Line Corporation; Notice of Applications

April 11, 2001.

Take notice that on March 30, 2001, Transcontinental Gas Pipe Line Corporation (Applicant), One Williams Center, Suite 4100, Tulsa, Oklahoma, 74172, through its agent, Williams Energy Marketing & Trading Company ¹ (Williams), tendered for filing, applications for certificates of public convenience and necessity pursuant to Section 7(b) of the Natural Gas Act (NGA) to abandon certain firm sales agreements under Applicant's Rate Schedule FS between Applicant and various customers pursuant to a Settlement Agreement approved by the Commission in Docket No. CP88-391, et al. on June 19, 1991, as amended by order issued December 17, 1991 ², all as more fully set forth in the applications, which are on file and open to public inspection. The application may be viewed on the web at www.ferc.fed.us/online/rims.htm (call (202) 208-2222 for assistance).

¹ Formerly Williams Energy Services Company.

² See orders at 55 FERC ¶ 61,466 (1991) and 57 FERC ¶ 61,345 (1991).

Applicant asserts that no abandonment of any facility is proposed. Applicant proposes to abandon twenty-three service agreements under its Rate Schedule FS. The information in the table below summarizes each individual abandonment application:

Docket Nos. | Customer name | Termination date of current service | Proposed effective date of abandonment
CP01-117-000 | City of Lawrenceville, Georgia | March 31, 2002 | March 31, 2002.
CP01-118-000 | City of Madison, Georgia | March 31, 2002 | March 31, 2002.
CP01-119-000 | Maplesville Water and Gas Board | March 31, 2002 | March 31, 2002.
CP01-120-000 | City of Royston Georgia | March 31, 2002 | March 31, 2002.
CP01-121-000 | City of Social Circle, Georgia | March 31, 2002 | March 31, 2002.
CP01-122-000 | City of Monroe, Georgia, Water, Light & Gas Comm | March 31, 2002 | March 31, 2002.
CP01-123-000 | Utilities Board City of Roanoke, Alabama | March 31, 2002 | March 31, 2002.
CP01-124-000 | Town of Rockford, Alabama | March 31, 2002 | March 31, 2002.
CP01-125-000 | City of Hartwell, Georgia | March 31, 2002 | March 31, 2002.
CP01-126-000 | City of Buford, Georgia | March 31, 2002 | March 31, 2002.
CP01-127-000 | City of Greenwood, South Carolina | March 31, 2002 | March 31, 2002.
CP01-128-000 | City of Elberton Georgia Natural Gas System | March 31, 2002 | March 31, 2002.
CP01-129-000 | Clinton-Newberry, Natural Gas Authority | March 31, 2002 | March 31, 2002.
CP01-130-000 | City of Bowman, Georgia | March 31, 2002 | March 31, 2002.
CP00-131-000 | City of Winder, Georgia | March 31, 2002 | March 31, 2002.
CP01-132-000 | City of Toccoa, Georgia | March 31, 2002 | March 31, 2002.
CP01-133-000 | Tri-County Natural Gas Company | March 31, 2002 | March 31, 2002.
CP01-134-000 | Town of Wedowee, Alabama | March 31, 2002 | March 31, 2002.
CP01-135-000 | City of Sugar Hill, Georgia | March 31, 2002 | March 31, 2002.
CP01-136-000 | East Central Alabama District | March 31, 2002 | March 31, 2002.
CP01-137-000 | Town of Wadley, Alabama | March 31, 2002 | March 31, 2002.
CP01-138-000 | City of Commerce, Georgia | March 31, 2002 | March 31, 2002.
CP01-139-000 | City of Covington, Georgia | March 31, 2002 | March 31, 2002.

Any question regarding these applications may be directed to Mr. David A. Glenn, Esquire, Senior Counsel, Transcontinental Gas Pipe Line Corporation, 2800 Post Oak Blvd., Houston Texas, 77056 at (713) 215-2341. Comments, protests and interventions may be filed electronically via the internet in lieu of paper. See, 18 CFR 385.2001(a)(1)(iii) and the instructions on the Commission's web site at http://www.ferc.fed.us/efi/doorbell.htm.

Any person desiring to be heard or to protest these filings should file a motion to intervene or protest with the Federal Energy Regulatory Commission, 888 First Street, NE., Washington, DC 20426, by or before May 2, 2001, in accordance with Sections 385.214 and 385.211 of the Commission's Rules and Regulations. Protests will be considered by the Commission in determining the appropriate action to be taken, but will not serve to make protestants parties to the proceeding. Any person wishing to become a party must file a motion to intervene. Copies of this filing are on file with the Commission and are available for public inspection in the Public Reference Room.

Take further notice that, pursuant to the authority contained in and subject to the jurisdiction conferred upon the Federal Energy Regulatory Commission by Sections 7 and 15 of the Natural Gas Act and the Commission's Rules of Practice and Procedure, a hearing will be held without further notice before the Commission on these applications if no petition to intervene is filed within the time required herein, and if the Commission on its own review of the matter finds that the abandonments are required by the public convenience and necessity. If a petition for leave to intervene is timely filed, or if the Commission on its own motion believes that a formal hearing is required, further notice of such hearing will be duly given.

Under the procedure herein provided for, unless otherwise advised, it will be unnecessary for Applicant to appear or be represented at the hearing.

David P. Boergers,
Secretary.

[FR Doc. 01-9423 Filed 4-16-01; 8:45 am]

BILLING CODE 6717-01-M